NUCLEAR REGULATORY COMMISSION

Advisory Committee on Reactor Safeguards; Meeting of the Subcommittee on Plant License Renewal; Cancellation

The ACRS Subcommittee meeting on Plant License Renewal scheduled to be held on June 22, 2001 has been canceled. Notice of this meeting was published in the Federal Register on Wednesday, June 6, 2001 (66 FR 30493).

For further information contact: Mr. Sam Duraiswamy, cognizant ACRS staff engineer, (telephone 301/415-7364) between 7:30 a.m. and 4:15 p.m. (EDT).

Dated: June 8, 2001.
James E. Lyons,
Associate Director for Technical Support ACRS/ACNW.

[FR Doc. 01-15268 Filed 6-15-01; 8:45 am]

BILLING CODE 7590-01-P